DEPARTMENT OF TRANSPORTATION

Office of the Secretary

[Docket Number: DOT-OST-2017-0179]

Agency Request for Renewal of a Previously Approved Information Collection: Office of Small and Disadvantaged Business Utilization (OSDBU) Mentor Protégé Program

ACTION: Notice and request for comments.

SUMMARY: The Department of Transportation (DOT) invites public comments about our intention to request the Office of Management and Budget (OMB) approval for an information collection. The collection involves two reports in which DOT will use the data to measure program achievement to determine whether the intention of the program to assist small businesses getting the developmental tools required to compete and perform in DOT and federal procurement programs is achieved. In addition, DOT is seeking comments on form OST F 5020.1 (2-12), which we have updated with two additional questions about number of employees and amount of federal contracts.

DATES: Written comments should be submitted by on or before March 19, 2018.

ADDRESSES: You may submit comments, identified by Docket No. DOT-OST-2017-0179, through one of the following methods:

• Federal eRulemaking Portal: http://www.regulations.gov. Follow the online instructions for submitting comments.

• Fax: 1 (202) 493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Leonardo San Román, Mentor Protégé Program, U.S. Department of Transportation, Office of Small and Disadvantaged Business Utilization, 1200 New Jersey Avenue SE, Washington, DC 20590, (202) 366-1930.

SUPPLEMENTARY INFORMATION:

Title: U.S. DOT Mentor Protégé program.

OMB Control Number: 2105-0570

Forms: Mentor Protégé program annual report; and Mentor Protégé program evaluation form.

Type of Review: Renewal.

Affected Public: Prime contractors and small businesses participating in DOT's Mentor Protégé Program.

Respondents: Approximately 25.

Frequency: One-time.

Estimated Average Burden per Response: 1 hour.

Estimated Total Annual Burden Hours: 25 hours.

The U.S. Department of Transportation (DOT) administers a Mentor-Protégé program that encourages agreements between large and small business prime contractors and eligible small business protégés.

A small business concern includes small disadvantaged businesses, 8(a) firms, women owned businesses, HUBZone small businesses, veteran-owned-businesses and service disabled veteran-owned small businesses. The program is also designed to improve the performance of DOT contractors and subcontractors, foster the establishment of long-term business relationships between small businesses and prime contractors, and increase the overall number of small businesses that receive DOT contract and subcontract awards.

Purpose

Mentor Protégé program participants must submit an annual report to document the developmental assistance and achievements. All responses to this collection of information are required to support the type of development assistance provided to the protégé from the mentor, per their Mentor-Protégé agreement. Also, program participants must submit a Mentor Protégé program evaluation form at the end of the agreement. Program participants will provide feedback and recommendations to DOT on program satisfaction. This form is a single consolidated document that is easy to read and understand for all program participants, including small businesses.

In accordance with Public Law 95-507, an amendment to the Small Business Act and the Small Business Investment Act of 1953, OSDBU is responsible for the implementation and execution of the U. S. Department of Transportation (DOT) activities on behalf of small businesses, in accordance with Section 8, 15 and 31 of the Small Business Act (SBA), as amended. The Office of Small and Disadvantaged Business Utilization also administers the provisions of Title 49, of the United States Code, Section 332, the Minority Resource Center (MRC) which includes the design and carry out programs to encourage, promote, and assist minority entrepreneurs and businesses in getting contracts, subcontracts, and projects related to those business opportunities.

The Department of Transportation (DOT) administers a Mentor Protégé Program to assist small business concerns enhance their capacity to compete for federal contracts. This program designed to motivate and encourage large business and prime contractor firms to provide mutually beneficial developmental assistance to small businesses.

DOT's Mentor-Protégé Program enhances the capability of minority and small business owners to compete more successfully for federal procurement opportunities. The program encourages private-sector relationships and expands DOT's efforts to identify and respond to the developmental needs of small and minority owned businesses.

The term small business includes small disadvantaged businesses, women owned businesses, HUBZone small businesses, veteran-owned-businesses and service disabled veteran-owned small businesses. The program is also designed to improve the performance of DOT contractors and subcontractors, foster the establishment of long-term business relationships between small businesses and prime contractors, and increase the overall number of small businesses that receive DOT contract and subcontract awards.

General Policy

1. Eligible business prime contractors (not under a suspension or debarment action and not in the Excluded Parties List System (ELPS) database) approved as mentor firms may enter into agreements with eligible protégés. Mentors provide appropriate developmental assistance to enhance the capabilities of protégés to perform as contractors and/or subcontractors.

2. Eligible small business prime contractors (not under a suspension or debarment action and not in the ELPS database) capable of providing developmental assistance may act as mentors.

3. Protégés may participate in the program in pursuit of a prime contract or as subcontractors under the mentor's prime contract with the Department of Transportation.

4. Mentors and Protégés are solely responsible for finding their counterpart. Therefore, we strongly encourage firms to explore existing business relationships to establish a Mentor-Protégé relationship.

5. Mentor-Protégé agreements should be for up to 36 months.

6. NON-AFFILIATION—a protégé will not be considered an affiliate of a mentor solely on the basis that the protégé has or will receive developmental assistance from the mentor under this program. For more information concerning size standards and affiliation, refer to FAR 19.101.

Incentives for Mentors

There are no costs involved for a firm to participate in DOT's Mentor-Protégé Program. DOT does not provide direct reimbursement to the mentors.

Measurement of Program Success

The overall success of the Mentor-Protégé Program will be measured by the extent to which it results in:

a. An increase in the quality of the technical capabilities of the protégé firms.

b. An increase in the number, dollar value and percentage of contracts or subcontracts awarded to protégés since the date of entry into the program.

c. An increase in the number of full time employees since the date of entry into the program.

Annual reports should be submitted by the mentor and protégé firms to the OSDBU on program progress. Only one report per agreement will be submitted for review. The OSDBU will evaluate these reports by considering the following:

1. Detailed actions taken by the mentor, to increase the participation of protégé as seller to the Federal Government;

2. Detailed actions taken by the mentor, to develop the technical capabilities of a protégé as defined in the agreement;

3. The degree to which the protégé has met the developmental objectives in the agreement;

4. The degree to which the mentor firm's participation in the Mentor-Protégé Program resulted in the protégé receiving contract(s) and subcontract(s) from private firms, DOT or any other federal agency.

5. In addition to the annual report, mentor and protégé firms should submit an evaluation to the OSDBU after the mutually agreed upon program period, or the voluntary withdrawal by either party from the program, whichever comes first.

Mentor Firms

Eligibility. The mentor can be a business that has graduated from the 8(a) Business Development program, a firm in the transitional stage of the program, or a small or large business. In addition, the mentor must be able to show that it is currently eligible for Federal contracting opportunities, is not under a suspension or debarment action, and is not in the ELPS database. Mentors may have multiple protégés. Mentors participating in Mentor-Protégé programs from other Federal agencies should keep a record system to prepare separate reports of mentoring activities for each agency's program.

Protégé Firms

(1) Eligibility. A protégé should be:

(a) A Small Business (SB), HUBZone, Small Disadvantaged Business (SDB), Women Owned Small Business, Veteran Owned Small Business, or Service Disabled Veteran Owned Small Business

(b) Able to show that it is currently eligible for Federal contracting opportunities, is not under a suspension or debarment action, and is not in the Excluded Parties List System (ELPS) database.

(2) Protégés may have multiple mentors. Protégés participating in mentor-protégé programs in addition to the DOT program should maintain a system for preparing separate reports of mentoring activity for each agency's program.

Selection of Mentor or Protégé Firms

Mentor and protégé firms are responsible for selecting their counterpart. The mentor is encouraged to select from a broad base of Small Businesses including SB, SDB, WOSB, VOSB, SDVOSB, and HUBZone firms whose core competencies support the Department of Transportation's missions.

Mentor-Protege Agreement Process

Firms interested in becoming a mentor firm should submit copy of a signed mentor-protégé application for each mentor-protégé relationship DOT OSDBU for approval. This will provide OSDBU the opportunity to evaluate the nature and extent of technical and managerial support, and traditional subcontracting support involved in the mentor-protégé relationship, enabling OSDBU to provide advice and assistance to the parties.

The Mentor Protégé agreement should contain:

(1) Name, address, phone, and email of mentor and protégé firm(s) and a point of contact within both firms who will oversee the agreement;

(2) A description of the type of developmental program that will be provided by the mentor firm to the protégé firm, including a schedule for providing assistance, and criteria for evaluation of the protégé's developmental success;

(3) Program participation term not to exceed 36 months;

(4) A clause or statement of the protégé's intent and agreement to report its progress to the OSDBU annually for two (2) years after exiting the program;

(5) Other terms and conditions, as appropriate;

(6) Procedures for the mentor's voluntary withdrawal from the program including notification of the protégé firm and the OSDBU. The Mentor should provide at least 30 days' written notice to OSDBU before withdrawing from the program.

(7) OSDBU will review a Mentor Protégé agreement no later than 30 days after receipt.

(8) Following OSDBU review, the mentor may implement the developmental assistance program.

OSDBU Review of Mentor-Protégé Agreement

(1) The agreement defines the relationship between the mentor and protégé firms only. The agreement itself does not create any privity of contract between the mentor or protégé and DOT.

(2) OSDBU will review the information to ensure the mentor and protégé are both eligible for the program and provide appropriate advice and assistance to the firms concerning the agreement and its implementation.

(3) OSDBU will notify the parties if changes in the agreement are advisable in order to make the agreement meet the objectives of the mentor-protégé program. The mentor and protégé should incorporate OSDBU recommendations before implementing the agreement.

(4) Upon completion of the review, the mentor may implement the developmental assistance program.

Developmental Assistance

The forms of developmental assistance a mentor can provide to a protégé include:

• Management, financial and/or technical assistance

• Overall business management/planning

• Cooperation on joint venture projects

• Rent-free use of facilities and/or equipment

• Temporary assignment of personnel to protégé for the purpose of training

• Any other types of mutually beneficial assistance

Internal Controls

1. The OSDBU will oversee the program to achieve program objectives.

2. OSDBU will review and evaluate mentor-protégé agreements for practicality, and accuracy of provided information.

3. OSDBU can perform site visits where Mentor-Protégé activity is performed.

4. OSDBU will review annual reports to measure protégé progress against the established developmental assistance included in the approved agreement.

5. If OSDBU determines that the objectives of the agreement are not met, OSDBU may conclude the existing Mentor-Protégé agreements if it determines that such actions are in the best interest of the agency. The OSDBU will communicate this decision in writing, and will be sent to the mentor and protégé after approval by the Director, OSDBU or representative.

For additional information related to the Mentor Protégé program, visit OSDBU's website at www.transportation.gov/osdbu.

Issued in Washington, DC, on January 9, 2018.
Willis Morris,
Director, Office of Small and Disadvantaged Business Utilization.

BILLING CODE 4910-9X-P

[FR Doc. 2018-00673 Filed 1-16-18; 8:45 am]

BILLING CODE 4910-9X-C